DEPARTMENT OF THE TREASURY

Office of Foreign Assets Control

31 CFR Part 591

Publication of Venezuela Sanctions Regulations Web General License 3 and Subsequent Iterations

AGENCY: Office of Foreign Assets Control, Treasury.

ACTION: Publication of web general licenses.

SUMMARY: The Department of the Treasury's Office of Foreign Assets Control (OFAC) is publishing nine general licenses (GLs) issued in the Venezuela Sanctions Regulations program: GLs 3, 3A, 3B, 3C, 3D, 3E, 3F, and 3G, each of which was previously issued on OFAC's website and is now expired, as well as GL 3H, which was also previously issued on OFAC's website.

DATES: General License 3H was issued on May 12, 2020. See SUPPLEMENTARY INFORMATION of this document for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website www.treasury.gov/ofac.

Background

On August 25, 2017, OFAC issued GL 3 to authorize certain transactions otherwise prohibited by Executive Order 13808 of August 24, 2017, “Imposing Additional Sanctions With Respect to the Situation in Venezuela” (82 FR 41155, August 29, 2017). At the time of issuance, OFAC made GL 3 available on its website (www.treas.gov/ofac). Subsequently, OFAC issued eight further iterations of GL 3, which extended the duration and modified the scope of the authorization: on January 28, 2019, OFAC issued GL 3A which superseded GL 3; on February 1, 2019, OFAC issued GL 3B, which superseded GL 3A; on February 11, 2019, OFAC issued GL 3C, which superseded GL 3B; on March 8, 2019, OFAC issued GL 3D, which superseded GL 3C; on April 17, 2019, OFAC issued GL 3E, which superseded GL 3D; on August 5, 2019, OFAC issued GL 3F, which superseded GL 3E; on October 1, 2019, OFAC issued GL 3G, which superseded GL 3F; and on May 12, 2020, OFAC issued GL 3H, which superseded GL 3G. Each GL was made available on OFAC's website when it was issued. On November 22, 2019, OFAC incorporated the prohibitions of Executive Order 13808, as well as of any other Executive orders issued pursuant to the national emergency declared in Executive Order 13692 of March 8, 2015, into the Venezuelan Sanctions Regulations, 31 CFR part 591. The text of these GLs is provided below.

OFFICE OF FOREIGN ASSETS CONTROL

Executive Order of August 24, 2017

Imposing Additional Sanctions With Respect to the Situation in Venezuela

GENERAL LICENSE 3

Authorizing Transactions Related to, Provision of Financing for, and Other Dealings in Certain Bonds

(a) Except as provided in paragraph (c) of this general license, all transactions related to, the provision of financing for, and other dealings in bonds specified in the Annex to this general license that would be prohibited by Subsection l(a)(iii) of Executive Order of August 24, 2017, “Imposing Additional Sanctions with Respect to the Situation in Venezuela,” are authorized.

(b) Except as provided in paragraph (c) of this general license, all transactions related to, the provision of financing for, and other dealings in bonds that were issued both (i) prior to the effective date of Executive Order of August 24, 2017, and (ii) by U.S. person entities owned or controlled, directly or indirectly, by the Government of Venezuela, are authorized.

(c) This general license does not authorize any transaction that is otherwise prohibited by Executive Order of August 24, 2017, Executive Order 13692 of March 8, 2015, or any part of 31 CFR chapter V.

Andrea Gacki,

Acting Director, Office of Foreign Assets Control

Dated: August 25, 2017

Annex—Venezuela-Related Bonds Described in Paragraph (a) of General License 3

The list below may also be found at this URL in standalone formats that are print-ready and spreadsheet-ready. https://www.treasury.gov/resource-center/sanctions/Programs/Pages/ven_gl.aspx.

List of Venezuela-related Bonds Described in Paragraph (a) of General License 3, as of August 25, 2017:

ISIN | CUSIP | Issuer name | Cpn | Issue date | Maturity
XS0356521160 | EH2888749 | CA La Electricidad de Caracas | 8.5 | 4/10/2008 | 4/10/2018
USG2025MAB75 | CP5100153 | Cerro Negro Finance Ltd | 7.9 | 6/18/1998 | 12/1/2020
US156877AC63 | 156877AC6 | Cerro Negro Finance Ltd | 8.03 | 6/18/1998 | 6/1/2028
USG2025MAC58 | CP5100211 | Cerro Negro Finance Ltd | 8.03 | 6/18/1998 | 6/1/2028
US156877AB80 | 156877AB8 | Cerro Negro Finance Ltd | 7.9 | 6/18/1998 | 12/1/2020
XS0294364954 | EG3110533 | Petroleos de Venezuela SA | 5.375 | 4/12/2007 | 4/12/2027
XS0294367205 | EG3110772 | Petroleos de Venezuela SA | 5.5 | 4/12/2007 | 4/12/2037
USP7807HAK16 | EI4173619 | Petroleos de Venezuela SA | 8.5 | 10/29/2010 | 11/2/2017
US716558AB79 | 716558AB7 | Petroleos de Venezuela SA | 8.5 | 10/29/2010 | 11/2/2017
US716558AC52 | 716558AC5 | Petroleos de Venezuela SA | 12.75 | 2/17/2011 | 2/17/2022
USP7807HAM71 | EI5787318 | Petroleos de Venezuela SA | 12.75 | 2/17/2011 | 2/17/2022
US716558AD36 | 716558AD3 | Petroleos de Venezuela SA | 9 | 11/17/2011 | 11/17/2021
USP7807HAP03 | EI8799468 | Petroleos de Venezuela SA | 9 | 11/17/2011 | 11/17/2021
USP7807HAQ85 | EJ1968233 | Petroleos de Venezuela SA | 9.75 | 5/17/2012 | 5/17/2035
US716558AE19 | 716558AE1 | Petroleos de Venezuela SA | 9.75 | 5/17/2012 | 5/17/2035
USP7807HAR68 | EJ9776299 | Petroleos de Venezuela SA | 6 | 11/15/2013 | 11/15/2026
US716558AF83 | 716558AF8 | Petroleos de Venezuela SA | 6 | 11/15/2013 | 11/15/2026
USP7807HAT25 | EK2909308 | Petroleos de Venezuela SA | 6 | 5/16/2014 | 5/16/2024
US716558AG66 | 716558AG6 | Petroleos de Venezuela SA | 6 | 5/16/2014 | 5/16/2024
XS1126891685 | JV9618804 | Petroleos de Venezuela SA | 6 | 10/28/2014 | 10/28/2022
USP7807HAV70 | QZ9940003 | Petroleos de Venezuela SA | 8.5 | 10/28/2016 | 10/27/2020
US716558AH40 | 716558AH4 | Petroleos de Venezuela SA | 8.5 | 10/28/2016 | 10/27/2020
USG70415AC18 | DD0110070 | Petrozuata Finance Inc | 8.37 | 6/27/1997 | 10/1/2022
US71676QAE61 | 71676QAE6 | Petrozuata Finance Inc | 8.37 | 6/27/1997 | 10/1/2022
XS0082274118 | EC0634765 | Pulp & Paper International Invts Ltd | 8.5 | 12/2/1997 | 12/2/2002
XS0838835451 | EJ4041160 | Republic of Venezuela 11.75% Euro-Dollar Bonds 2026 Ltd/The | 11.75 | 10/3/2012 | 10/21/2026
XS0504851535 | EI2372072 | Republic of Venezuela 8.25% Bonds 2024 Ltd/The | 8.25 | 4/30/2010 | 10/13/2024
XS0838864808 | EJ4040618 | Republic of Venezuela 8.25% Bonds 2024 Ltd/The | 8.25 | 10/3/2012 | 10/13/2024
USN7992HAA07 | EF3856640 | Sidetur Finance BV | 10 | 5/3/2006 | 4/20/2016
US825870AA62 | 825870AA6 | Sidetur Finance BV | 10 | 5/3/2006 | 4/20/2016
XS0081483090 | 922655BR5 | Venezuela Global Strip | 0 | 9/18/1997 | 9/15/2017
XS0081484817 | GG7366808 | Venezuela Global Strip | 0 | 9/18/1997 | 9/15/2021
XS0081487166 | 922655CJ2 | Venezuela Global Strip | 0 | 9/18/1997 | 3/15/2026
XS0081483843 | 922655BV6 | Venezuela Global Strip | 0 | 9/18/1997 | 9/15/2019
XS0081483504 | 922655BU8 | Venezuela Global Strip | 0 | 9/18/1997 | 3/15/2019
XS0081486861 | 922655CH6 | Venezuela Global Strip | 0 | 9/18/1997 | 9/15/2025
XS0081484064 | 922655BW4 | Venezuela Global Strip | 0 | 9/18/1997 | 3/15/2020
XS0081483413 | 922655BT1 | Venezuela Global Strip | 0 | 9/18/1997 | 9/15/2018
XS0081487240 | 922655CK9 | Venezuela Global Strip | 0 | 9/18/1997 | 9/15/2026
XS0081486515 | 922655CG8 | Venezuela Global Strip | 0 | 9/18/1997 | 3/15/2025
XS0081484908 | 922655CA1 | Venezuela Global Strip | 0 | 9/18/1997 | 3/15/2022
XS0081485202 | 922655CB9 | Venezuela Global Strip | 0 | 9/18/1997 | 9/15/2022
XS0081485467 | 922655CD5 | Venezuela Global Strip | 0 | 9/18/1997 | 9/15/2023
XS0081483330 | 922655BS3 | Venezuela Global Strip | 0 | 9/18/1997 | 3/15/2018
XS0081486192 | 922655CF0 | Venezuela Global Strip | 0 | 9/18/1997 | 9/15/2024
XS0081484221 | 922655BX2 | Venezuela Global Strip | 0 | 9/18/1997 | 9/15/2020
XS0081485541 | 922655CE3 | Venezuela Global Strip | 0 | 9/18/1997 | 3/15/2024
XS0081484650 | 922655BY0 | Venezuela Global Strip | 0 | 9/18/1997 | 3/15/2021
XS0081485384 | 922655CC7 | Venezuela Global Strip | 0 | 9/18/1997 | 3/15/2023
XS0081487679 | 922655CL7 | Venezuela Global Strip | 0 | 9/18/1997 | 3/15/2027
XS0081469008 | 922655CS2 | Venezuela Global Strip | 0 | 9/18/1997 | 9/15/2027
XS0081487836 | 922655CM5 | Venezuela Global Strip | 0 | 9/18/1997 | 9/15/2027
XS0081469859 | 922655CR4 | Venezuela Global Strip | 0 | #N/A Field Not Applicable | 9/15/2027
XS0081488644 | 922655CQ6 | Venezuela Global Strip | 0 | #N/A Field Not Applicable | 9/15/2027
XS0029484788 | EF3043504 | Venezuela Government International Bond | 0 | 12/18/1990 | 4/15/2020
XS0029484861 | EF3042142 | Venezuela Government International Bond | 0 | 12/18/1990 | 4/15/2020
XS0029484515 | EF3043546 | Venezuela Government International Bond | 0 | 12/18/1990 | 4/15/2020
XS0029485322 | TT3352321 | Venezuela Government International Bond | 0 | 12/18/1990 | 4/15/2020
XS0029484945 | TT2005359 | Venezuela Government International Bond | 0 | 12/18/1990 | 4/15/2020
US922646AS37 | 922646AS3 | Venezuela Government International Bond | 9.25 | 9/18/1997 | 9/15/2027
US922646AT10 | 922646AT1 | Venezuela Government International Bond | 13.625 | 8/6/1998 | 8/15/2018
USP9395PAA95 | EF5132735 | Venezuela Government International Bond | 13.625 | 9/27/2001 | 8/15/2018
US922646BE32 | 922646BE3 | Venezuela Government International Bond | 13.625 | 9/27/2001 | 8/15/2018
USP97475AD26 | ED2379482 | Venezuela Government International Bond | 7 | 12/1/2003 | 12/1/2018
US922646BL74 | 922646BL7 | Venezuela Government International Bond | 9.375 | 1/14/2004 | 1/13/2034
XS0217249126 | ED8955574 | Venezuela Government International Bond | 7.65 | 4/21/2005 | 4/21/2025
USP97475AG56 | EF1877168 | Venezuela Government International Bond | 6 | 12/9/2005 | 12/9/2020
USP97475AJ95 | EH0305910 | Venezuela Government International Bond | 7 | 11/15/2007 | 3/31/2038
USP17625AB33 | EH3345228 | Venezuela Government International Bond | 9.25 | 5/7/2008 | 5/7/2028
USP17625AA59 | EH3344783 | Venezuela Government International Bond | 9 | 5/7/2008 | 5/7/2023
USP97475AN08 | EH9901297 | Venezuela Government International Bond | 7.75 | 10/13/2009 | 10/13/2019
USP97475AP55 | EH9901214 | Venezuela Government International Bond | 8.25 | 10/13/2009 | 10/13/2024
USP17625AC16 | EI3500440 | Venezuela Government International Bond | 12.75 | 8/23/2010 | 8/23/2022
USP17625AD98 | EI7507573 | Venezuela Government International Bond | 11.95 | 8/5/2011 | 8/5/2031
USP17625AE71 | EI8410553 | Venezuela Government International Bond | 11.75 | 10/21/2011 | 10/21/2026
SE0005994167 | EK3410280 | Nynas AB | STIB3M +750.0 | 06/26/2014 | 06/26/2018

OFFICE OF FOREIGN ASSETS CONTROL

Executive Order 13808 of August 24, 2017

Imposing Additional Sanctions With Respect to the Situation in Venezuela

GENERAL LICENSE 3A

Authorizing Transactions Related to, Provision of Financing for, and Other Dealings in Certain Bonds

(a) Except as provided in paragraph (c) of this general license, all transactions related to, the provision of financing for, and other dealings in bonds specified in the Annex to this general license that would be prohibited by Subsection 1(a)(iii) of Executive Order 13808 of August 24, 2017, are authorized.

(b) Except as provided in paragraph (c) of this general license, all transactions related to, the provision of financing for, and other dealings in bonds that were issued both (i) prior to August 25, 2017 (the effective date of Executive Order of August 24, 2017), and (ii) by U.S. person entities owned or controlled, directly or indirectly, by the Government of Venezuela, other than Nynas AB, PDV Holding, Inc. (PDVH), CITGO Holding, Inc., and any of their subsidiaries, are authorized.

(c) This general license does not authorize any transaction that is otherwise prohibited by Executive Order 13850 of November 1, 2018, Executive Order 13835 of May 21, 2018, Executive Order 13827 of March 19, 2018, Executive Order 13808 of August 24, 2017, Executive Order 13692 of March 8, 2015, or any part of 31 CFR chapter V.

(d) Effective January 28, 2019, General License No. 3, dated August 25, 2017, is replaced and superseded in its entirety by this General License No. 3A.

Andrea Gacki,

Director, Office of Foreign Assets Control

Dated: January 28, 2019

Annex—Venezuela-Related Bonds Described in Paragraph (a) of General License 3A

List of Venezuela-related Bonds Described in Paragraph (a) of General License 3A, as of January 28, 2019:

ISIN | CUSIP | Issuer name | Cpn | Issue date | Maturity
XS0356521160 | EH2888749 | CA La Electricidad de Caracas | 8.5 | 4/10/2008 | 4/10/2018
USG2025MAB75 | CP5100153 | Cerro Negro Finance Ltd | 7.9 | 6/18/1998 | 12/1/2020
US156877AC63 | 156877AC6 | Cerro Negro Finance Ltd | 8.03 | 6/18/1998 | 6/1/2028
USG2025MAC58 | CP5100211 | Cerro Negro Finance Ltd | 8.03 | 6/18/1998 | 6/1/2028
US156877AB80 | 156877AB8 | Cerro Negro Finance Ltd | 7.9 | 6/18/1998 | 12/1/2020
XS0082274118 | EC0634765 | Pulp & Paper International Invts Ltd | 8.5 | 12/2/1997 | 12/2/2002
XS0838835451 | EJ4041160 | Republic of Venezuela 11.75% Euro-Dollar Bonds 2026 Ltd/The | 11.75 | 10/3/2012 | 10/21/2026
XS0504851535 | EI2372072 | Republic of Venezuela 8.25% Bonds 2024 Ltd/The | 8.25 | 4/30/2010 | 10/13/2024
XS0838864808 | EJ4040618 | Republic of Venezuela 8.25% Bonds 2024 Ltd/The | 8.25 | 10/3/2012 | 10/13/2024
USN7992HAA07 | EF3856640 | Sidetur Finance BV | 10 | 5/3/2006 | 4/20/2016
US825870AA62 | 825870AA6 | Sidetur Finance BV | 10 | 5/3/2006 | 4/20/2016
XS0081483090 | 922655BR5 | Venezuela Global Strip | 0 | 9/18/1997 | 9/15/2017
XS0081484817 | GG7366808 | Venezuela Global Strip | 0 | 9/18/1997 | 9/15/2021
XS0081487166 | 922655CJ2 | Venezuela Global Strip | 0 | 9/18/1997 | 3/15/2026
XS0081483843 | 922655BV6 | Venezuela Global Strip | 0 | 9/18/1997 | 9/15/2019
XS0081483504 | 922655BU8 | Venezuela Global Strip | 0 | 9/18/1997 | 3/15/2019
XS0081486861 | 922655CH6 | Venezuela Global Strip | 0 | 9/18/1997 | 9/15/2025
XS0081484064 | 922655BW4 | Venezuela Global Strip | 0 | 9/18/1997 | 3/15/2020
XS0081483413 | 922655BT1 | Venezuela Global Strip | 0 | 9/18/1997 | 9/15/2018
XS0081487240 | 922655CK9 | Venezuela Global Strip | 0 | 9/18/1997 | 9/15/2026
XS0081486515 | 922655CG8 | Venezuela Global Strip | 0 | 9/18/1997 | 3/15/2025
XS0081484908 | 922655CA1 | Venezuela Global Strip | 0 | 9/18/1997 | 3/15/2022
XS0081485202 | 922655CB9 | Venezuela Global Strip | 0 | 9/18/1997 | 9/15/2022
XS0081485467 | 922655CD5 | Venezuela Global Strip | 0 | 9/18/1997 | 9/15/2023
XS0081483330 | 922655BS3 | Venezuela Global Strip | 0 | 9/18/1997 | 3/15/2018
XS0081486192 | 922655CF0 | Venezuela Global Strip | 0 | 9/18/1997 | 9/15/2024
XS0081484221 | 922655BX2 | Venezuela Global Strip | 0 | 9/18/1997 | 9/15/2020
XS0081485541 | 922655CE3 | Venezuela Global Strip | 0 | 9/18/1997 | 3/15/2024
XS0081484650 | 922655BY0 | Venezuela Global Strip | 0 | 9/18/1997 | 3/15/2021
XS0081485384 | 922655CC7 | Venezuela Global Strip | 0 | 9/18/1997 | 3/15/2023
XS0081487679 | 922655CL7 | Venezuela Global Strip | 0 | 9/18/1997 | 3/15/2027
XS0081469008 | 922655CS2 | Venezuela Global Strip | 0 | 9/18/1997 | 9/15/2027
XS0081487836 | 922655CM5 | Venezuela Global Strip | 0 | 9/18/1997 | 9/15/2027
XS0081469859 | 922655CR4 | Venezuela Global Strip | 0 | #N/A Field Not Applicable | 9/15/2027
XS0081488644 | 922655CQ6 | Venezuela Global Strip | 0 | #N/A Field Not Applicable | 9/15/2027
XS0029484788 | EF3043504 | Venezuela Government International Bond | 0 | 12/18/1990 | 4/15/2020
XS0029484861 | EF3042142 | Venezuela Government International Bond | 0 | 12/18/1990 | 4/15/2020
XS0029484515 | EF3043546 | Venezuela Government International Bond | 0 | 12/18/1990 | 4/15/2020
XS0029485322 | TT3352321 | Venezuela Government International Bond | 0 | 12/18/1990 | 4/15/2020
XS0029484945 | TT2005359 | Venezuela Government International Bond | 0 | 12/18/1990 | 4/15/2020
US922646AS37 | 922646AS3 | Venezuela Government International Bond | 9.25 | 9/18/1997 | 9/15/2027
US922646AT10 | 922646AT1 | Venezuela Government International Bond | 13.625 | 8/6/1998 | 8/15/2018
USP9395PAA95 | EF5132735 | Venezuela Government International Bond | 13.625 | 9/27/2001 | 8/15/2018
US922646BE32 | 922646BE3 | Venezuela Government International Bond | 13.625 | 9/27/2001 | 8/15/2018
USP97475AD26 | ED2379482 | Venezuela Government International Bond | 7 | 12/1/2003 | 12/1/2018
US922646BL74 | 922646BL7 | Venezuela Government International Bond | 9.375 | 1/14/2004 | 1/13/2034
XS0217249126 | ED8955574 | Venezuela Government International Bond | 7.65 | 4/21/2005 | 4/21/2025
USP97475AG56 | EF1877168 | Venezuela Government International Bond | 6 | 12/9/2005 | 12/9/2020
USP97475AJ95 | EH0305910 | Venezuela Government International Bond | 7 | 11/15/2007 | 3/31/2038
USP17625AB33 | EH3345228 | Venezuela Government International Bond | 9.25 | 5/7/2008 | 5/7/2028
USP17625AA59 | EH3344783 | Venezuela Government International Bond | 9 | 5/7/2008 | 5/7/2023
USP97475AN08 | EH9901297 | Venezuela Government International Bond | 7.75 | 10/13/2009 | 10/13/2019
USP97475AP55 | EH9901214 | Venezuela Government International Bond | 8.25 | 10/13/2009 | 10/13/2024
USP17625AC16 | EI3500440 | Venezuela Government International Bond | 12.75 | 8/23/2010 | 8/23/2022
USP17625AD98 | EI7507573 | Venezuela Government International Bond | 11.95 | 8/5/2011 | 8/5/2031
USP17625AE71 | EI8410553 | Venezuela Government International Bond | 11.75 | 10/21/2011 | 10/21/2026

OFFICE OF FOREIGN ASSETS CONTROL

Executive Order 13808 of August 24, 2017

Imposing Additional Sanctions With Respect to the Situation in Venezuela

GENERAL LICENSE 3B

Authorizing Transactions Related to, Provision of Financing for, and Other Dealings in Certain Bonds

(a) Except as provided in paragraph (e) of this general license, all transactions related to, the provision of financing for, and other dealings in bonds specified in the Annex to this general license that would be prohibited by Subsection 1(a)(iii) of Executive Order (E.O.) 13808 of August 24, 2017, are authorized, provided that any divestment or transfer of, or facilitation of divestment or transfer of, any holdings in such bonds must be to a non-U.S. person.

(b) Except as provided in paragraph (e) of this general license, U.S. persons are authorized to engage in all transactions prohibited by Subsection 1(a)(iii) of E.O. 13808 that are ordinarily incident and necessary to facilitating, clearing, and settling trades of holdings in the bonds specified in the Annex to this general license, provided such trades were placed prior to 4:00 p.m. eastern standard time on February 1, 2019.

(c) Except as provided in paragraph (e) of this general license, all transactions and activities prohibited by Section 1(a)(iii) of E.O. 13808 that are ordinarily incident and necessary to the wind down of financial contracts or other agreements that were entered into prior to 4:00 p.m. eastern standard time on February 1, 2019, involving, or linked to, bonds specified in the Annex to this general license are authorized. This authorization is valid through 12:01 a.m. eastern standard time, March 3, 2019.

(d) Except as provided in paragraph (e) of this general license, all transactions related to, the provision of financing for, and other dealings in bonds that were issued both (i) prior to August 25, 2017 (the effective date of E.O. 13808), and (ii) by U.S. person entities owned or controlled, directly or indirectly, by the Government of Venezuela, other than Nynas AB, PDV Holding, Inc. (PDVH), CITGO Holding, Inc., and any of their subsidiaries, are authorized.

(e) This general license does not authorize any transaction that is otherwise prohibited by Executive Order 13850 of November 1, 2018, Executive Order 13835 of May 21, 2018, Executive Order 13827 of March 19, 2018, Executive Order 13808 of August 24, 2017, Executive Order 13692 of March 8, 2015, or any part of 31 CFR chapter V.

(f) Effective February 1, 2019, General License No. 3A, dated January 28, 2019, is replaced and superseded in its entirety by this General License No. 3B.

Andrea Gacki,

Director, Office of Foreign Assets Control

Dated: February 1, 2019

Annex—Venezuela-Related Bonds Described in Paragraphs (a), (b), and (c) of General License 3B

List of Venezuela-Related Bonds Described in Paragraphs (a), (b), and (c) of General License 3B, as of February 1, 2019:

ISIN | CUSIP | Issuer name | Cpn | Issue date | Maturity
XS0082274118 | EC0634765 | Pulp & Paper International Invts Ltd | 8.5 | 12/2/1997 | 12/2/2002
XS0838835451 | EJ4041160 | Republic of Venezuela 11.75% Euro-Dollar Bonds 2026 Ltd/The | 11.75 | 10/3/2012 | 10/21/2026
XS0504851535 | EI2372072 | Republic of Venezuela 8.25% Bonds 2024 Ltd/The | 8.25 | 4/30/2010 | 10/13/2024
XS0838864808 | EJ4040618 | Republic of Venezuela 8.25% Bonds 2024 Ltd/The | 8.25 | 10/3/2012 | 10/13/2024
USN7992HAA07 | EF3856640 | Sidetur Finance BV | 10 | 5/3/2006 | 4/20/2016
US825870AA62 | 825870AA6 | Sidetur Finance BV | 10 | 5/3/2006 | 4/20/2016
XS0081483090 | 922655BR5 | Venezuela Global Strip | 0 | 9/18/1997 | 9/15/2017
XS0081484817 | GG7366808 | Venezuela Global Strip | 0 | 9/18/1997 | 9/15/2021
XS0081487166 | 922655CJ2 | Venezuela Global Strip | 0 | 9/18/1997 | 3/15/2026
XS0081483843 | 922655BV6 | Venezuela Global Strip | 0 | 9/18/1997 | 9/15/2019
XS0081483504 | 922655BU8 | Venezuela Global Strip | 0 | 9/18/1997 | 3/15/2019
XS0081486861 | 922655CH6 | Venezuela Global Strip | 0 | 9/18/1997 | 9/15/2025
XS0081484064 | 922655BW4 | Venezuela Global Strip | 0 | 9/18/1997 | 3/15/2020
XS0081483413 | 922655BT1 | Venezuela Global Strip | 0 | 9/18/1997 | 9/15/2018
XS0081487240 | 922655CK9 | Venezuela Global Strip | 0 | 9/18/1997 | 9/15/2026
XS0081486515 | 922655CG8 | Venezuela Global Strip | 0 | 9/18/1997 | 3/15/2025
XS0081484908 | 922655CA1 | Venezuela Global Strip | 0 | 9/18/1997 | 3/15/2022
XS0081485202 | 922655CB9 | Venezuela Global Strip | 0 | 9/18/1997 | 9/15/2022
XS0081485467 | 922655CD5 | Venezuela Global Strip | 0 | 9/18/1997 | 9/15/2023
XS0081483330 | 922655BS3 | Venezuela Global Strip | 0 | 9/18/1997 | 3/15/2018
XS0081486192 | 922655CF0 | Venezuela Global Strip | 0 | 9/18/1997 | 9/15/2024
XS0081484221 | 922655BX2 | Venezuela Global Strip | 0 | 9/18/1997 | 9/15/2020
XS0081485541 | 922655CE3 | Venezuela Global Strip | 0 | 9/18/1997 | 3/15/2024
XS0081484650 | 922655BY0 | Venezuela Global Strip | 0 | 9/18/1997 | 3/15/2021
XS0081485384 | 922655CC7 | Venezuela Global Strip | 0 | 9/18/1997 | 3/15/2023
XS0081487679 | 922655CL7 | Venezuela Global Strip | 0 | 9/18/1997 | 3/15/2027
XS0081469008 | 922655CS2 | Venezuela Global Strip | 0 | 9/18/1997 | 9/15/2027
XS0081487836 | 922655CM5 | Venezuela Global Strip | 0 | 9/18/1997 | 9/15/2027
XS0081469859 | 922655CR4 | Venezuela Global Strip | 0 | #N/A Field Not Applicable | 9/15/2027
XS0081488644 | 922655CQ6 | Venezuela Global Strip | 0 | #N/A Field Not Applicable | 9/15/2027
XS0029484788 | EF3043504 | Venezuela Government International Bond | 0 | 12/18/1990 | 4/15/2020
XS0029484861 | EF3042142 | Venezuela Government International Bond | 0 | 12/18/1990 | 4/15/2020
XS0029484515 | EF3043546 | Venezuela Government International Bond | 0 | 12/18/1990 | 4/15/2020
XS0029485322 | TT3352321 | Venezuela Government International Bond | 0 | 12/18/1990 | 4/15/2020
XS0029484945 | TT2005359 | Venezuela Government International Bond | 0 | 12/18/1990 | 4/15/2020
US922646AS37 | 922646AS3 | Venezuela Government International Bond | 9.25 | 9/18/1997 | 9/15/2027
US922646AT10 | 922646AT1 | Venezuela Government International Bond | 13.625 | 8/6/1998 | 8/15/2018
USP9395PAA95 | EF5132735 | Venezuela Government International Bond | 13.625 | 9/27/2001 | 8/15/2018
US922646BE32 | 922646BE3 | Venezuela Government International Bond | 13.625 | 9/27/2001 | 8/15/2018
USP97475AD26 | ED2379482 | Venezuela Government International Bond | 7 | 12/1/2003 | 12/1/2018
US922646BL74 | 922646BL7 | Venezuela Government International Bond | 9.375 | 1/14/2004 | 1/13/2034
XS0217249126 | ED8955574 | Venezuela Government International Bond | 7.65 | 4/21/2005 | 4/21/2025
USP97475AG56 | EF1877168 | Venezuela Government International Bond | 6 | 12/9/2005 | 12/9/2020
USP97475AJ95 | EH0305910 | Venezuela Government International Bond | 7 | 11/15/2007 | 3/31/2038
USP17625AB33 | EH3345228 | Venezuela Government International Bond | 9.25 | 5/7/2008 | 5/7/2028
USP17625AA59 | EH3344783 | Venezuela Government International Bond | 9 | 5/7/2008 | 5/7/2023
USP97475AN08 | EH9901297 | Venezuela Government International Bond | 7.75 | 10/13/2009 | 10/13/2019
USP97475AP55 | EH9901214 | Venezuela Government International Bond | 8.25 | 10/13/2009 | 10/13/2024
USP17625AC16 | EI3500440 | Venezuela Government International Bond | 12.75 | 8/23/2010 | 8/23/2022
USP17625AD98 | EI7507573 | Venezuela Government International Bond | 11.95 | 8/5/2011 | 8/5/2031
USP17625AE71 | EI8410553 | Venezuela Government International Bond | 11.75 | 10/21/2011 | 10/21/2026

OFFICE OF FOREIGN ASSETS CONTROL

Executive Order 13808 of August 24, 2017

Imposing Additional Sanctions With Respect to the Situation in Venezuela

GENERAL LICENSE 3C

Authorizing Transactions Related to, Provision of Financing for, and Other Dealings in Certain Bonds

(a) Except as provided in paragraphs (e) and (f) of this general license, all transactions related to, the provision of financing for, and other dealings in bonds specified in the Annex to this general license (GL 3C Bonds) that would be prohibited by Subsection 1(a)(iii) of Executive Order (E.O.) 13808 of August 24, 2017, are authorized, provided that any divestment or transfer of, or facilitation of divestment or transfer of, any holdings in such bonds must be to a non-U.S. person.

(b) Except as provided in paragraph (f) of this general license, U.S. persons are authorized to engage in all transactions prohibited by Subsection 1(a)(iii) of E.O. 13808 that are ordinarily incident and necessary to facilitating, clearing, and settling trades of holdings in GL 3C Bonds, provided such trades were placed prior to 4:00 p.m. eastern standard time on February 1, 2019.

(c) Except as provided in paragraph (f) of this general license, all transactions and activities prohibited by Section 1(a)(iii) of E.O. 13808 that are ordinarily incident and necessary to the wind down of financial contracts or other agreements that were entered into prior to 4:00 p.m. eastern standard time on February 1, 2019, involving, or linked to, GL 3C Bonds are authorized. This authorization is valid through 12:01 a.m. eastern standard time, March 11, 2019.

(d) Except as provided in paragraph (f) of this general license, all transactions related to, the provision of financing for, and other dealings in bonds that were issued both (i) prior to August 25, 2017 (the effective date of E.O. 13808), and (ii) by U.S. person entities owned or controlled, directly or indirectly, by the Government of Venezuela, other than Nynas AB, PDV Holding, Inc. (PDVH), CITGO Holding, Inc., and any of their subsidiaries, are authorized.

(e) Paragraph (a) of this general license does not authorize U.S. persons to purchase or invest in, or to facilitate the purchase of or investment in, directly or indirectly, bonds issued by the Government of Venezuela prior to August 25, 2017 (including the GL 3C Bonds), other than purchases of or investments in GL 3C Bonds that are ordinarily incident and necessary to the divestment or transfer of holdings in GL 3C Bonds.

(f) This general license does not authorize any transaction that is otherwise prohibited by Executive Order 13850 of November 1, 2018, Executive Order 13835 of May 21, 2018, Executive Order 13827 of March 19, 2018, Executive Order 13808 of August 24, 2017, Executive Order 13692 of March 8, 2015, or any part of 31 CFR chapter V.

(g) Effective February 11, 2019, General License No. 3B, dated February 1, 2019, is replaced and superseded in its entirety by this General License No. 3C.

Andrea Gacki,

Director, Office of Foreign Assets Control

Dated: February 11, 2019

Annex—Venezuela-Related Bonds Described in Paragraph (a) of General License 3C (GL 3C Bonds)

List of GL 3C Bonds, as of February 11, 2019:

ISIN | CUSIP | Issuer name | Cpn | Issue date | Maturity
XS0082274118 | EC0634765 | Pulp & Paper International Invts Ltd | 8.5 | 12/2/1997 | 12/2/2002
XS0838835451 | EJ4041160 | Republic of Venezuela 11.75% Euro-Dollar Bonds 2026 Ltd/The | 11.75 | 10/3/2012 | 10/21/2026
XS0504851535 | EI2372072 | Republic of Venezuela 8.25% Bonds 2024 Ltd/The | 8.25 | 4/30/2010 | 10/13/2024
XS0838864808 | EJ4040618 | Republic of Venezuela 8.25% Bonds 2024 Ltd/The | 8.25 | 10/3/2012 | 10/13/2024
USN7992HAA07 | EF3856640 | Sidetur Finance BV | 10 | 5/3/2006 | 4/20/2016
US825870AA62 | 825870AA6 | Sidetur Finance BV | 10 | 5/3/2006 | 4/20/2016
XS0081483090 | 922655BR5 | Venezuela Global Strip | 0 | 9/18/1997 | 9/15/2017
XS0081484817 | GG7366808 | Venezuela Global Strip | 0 | 9/18/1997 | 9/15/2021
XS0081487166 | 922655CJ2 | Venezuela Global Strip | 0 | 9/18/1997 | 3/15/2026
XS0081483843 | 922655BV6 | Venezuela Global Strip | 0 | 9/18/1997 | 9/15/2019
XS0081483504 | 922655BU8 | Venezuela Global Strip | 0 | 9/18/1997 | 3/15/2019
XS0081486861 | 922655CH6 | Venezuela Global Strip | 0 | 9/18/1997 | 9/15/2025
XS0081484064 | 922655BW4 | Venezuela Global Strip | 0 | 9/18/1997 | 3/15/2020
XS0081483413 | 922655BT1 | Venezuela Global Strip | 0 | 9/18/1997 | 9/15/2018
XS0081487240 | 922655CK9 | Venezuela Global Strip | 0 | 9/18/1997 | 9/15/2026
XS0081486515 | 922655CG8 | Venezuela Global Strip | 0 | 9/18/1997 | 3/15/2025
XS0081484908 | 922655CA1 | Venezuela Global Strip | 0 | 9/18/1997 | 3/15/2022
XS0081485202 | 922655CB9 | Venezuela Global Strip | 0 | 9/18/1997 | 9/15/2022
XS0081485467 | 922655CD5 | Venezuela Global Strip | 0 | 9/18/1997 | 9/15/2023
XS0081483330 | 922655BS3 | Venezuela Global Strip | 0 | 9/18/1997 | 3/15/2018
XS0081486192 | 922655CF0 | Venezuela Global Strip | 0 | 9/18/1997 | 9/15/2024
XS0081484221 | 922655BX2 | Venezuela Global Strip | 0 | 9/18/1997 | 9/15/2020
XS0081485541 | 922655CE3 | Venezuela Global Strip | 0 | 9/18/1997 | 3/15/2024
XS0081484650 | 922655BY0 | Venezuela Global Strip | 0 | 9/18/1997 | 3/15/2021
XS0081485384 | 922655CC7 | Venezuela Global Strip | 0 | 9/18/1997 | 3/15/2023
XS0081487679 | 922655CL7 | Venezuela Global Strip | 0 | 9/18/1997 | 3/15/2027
XS0081469008 | 922655CS2 | Venezuela Global Strip | 0 | 9/18/1997 | 9/15/2027
XS0081487836 | 922655CM5 | Venezuela Global Strip | 0 | 9/18/1997 | 9/15/2027
XS0081469859 | 922655CR4 | Venezuela Global Strip | 0 | #N/A Field Not Applicable | 9/15/2027
XS0081488644 | 922655CQ6 | Venezuela Global Strip | 0 | #N/A Field Not Applicable | 9/15/2027
XS0029484788 | EF3043504 | Venezuela Government International Bond | 0 | 12/18/1990 | 4/15/2020
XS0029484861 | EF3042142 | Venezuela Government International Bond | 0 | 12/18/1990 | 4/15/2020
XS0029484515 | EF3043546 | Venezuela Government International Bond | 0 | 12/18/1990 | 4/15/2020
XS0029485322 | TT3352321 | Venezuela Government International Bond | 0 | 12/18/1990 | 4/15/2020
XS0029484945 | TT2005359 | Venezuela Government International Bond | 0 | 12/18/1990 | 4/15/2020
US922646AS37 | 922646AS3 | Venezuela Government International Bond | 9.25 | 9/18/1997 | 9/15/2027
US922646AT10 | 922646AT1 | Venezuela Government International Bond | 13.625 | 8/6/1998 | 8/15/2018
USP9395PAA95 | EF5132735 | Venezuela Government International Bond | 13.625 | 9/27/2001 | 8/15/2018
US922646BE32 | 922646BE3 | Venezuela Government International Bond | 13.625 | 9/27/2001 | 8/15/2018
USP97475AD26 | ED2379482 | Venezuela Government International Bond | 7 | 12/1/2003 | 12/1/2018
US922646BL74 | 922646BL7 | Venezuela Government International Bond | 9.375 | 1/14/2004 | 1/13/2034
XS0217249126 | ED8955574 | Venezuela Government International Bond | 7.65 | 4/21/2005 | 4/21/2025
USP97475AG56 | EF1877168 | Venezuela Government International Bond | 6 | 12/9/2005 | 12/9/2020
USP97475AJ95 | EH0305910 | Venezuela Government International Bond | 7 | 11/15/2007 | 3/31/2038
USP17625AB33 | EH3345228 | Venezuela Government International Bond | 9.25 | 5/7/2008 | 5/7/2028
USP17625AA59 | EH3344783 | Venezuela Government International Bond | 9 | 5/7/2008 | 5/7/2023
USP97475AN08 | EH9901297 | Venezuela Government International Bond | 7.75 | 10/13/2009 | 10/13/2019
USP97475AP55 | EH9901214 | Venezuela Government International Bond | 8.25 | 10/13/2009 | 10/13/2024
USP17625AC16 | EI3500440 | Venezuela Government International Bond | 12.75 | 8/23/2010 | 8/23/2022
USP17625AD98 | EI7507573 | Venezuela Government International Bond | 11.95 | 8/5/2011 | 8/5/2031
USP17625AE71 | EI8410553 | Venezuela Government International Bond | 11.75 | 10/21/2011 | 10/21/2026

OFFICE OF FOREIGN ASSETS CONTROL

Executive Order 13808 of August 24, 2017

Imposing Additional Sanctions With Respect to the Situation in Venezuela

GENERAL LICENSE 3D

Authorizing Transactions Related to, Provision of Financing for, and Other Dealings in Certain Bonds

(a) Except as provided in paragraphs (e) and (f) of this general license, all transactions related to, the provision of financing for, and other dealings in bonds specified in the Annex to this general license (GL 3D Bonds) that would be prohibited by Subsection 1(a)(iii) of Executive Order (E.O.) 13808 of August 24, 2017, are authorized, provided that any divestment or transfer of, or facilitation of divestment or transfer of, any holdings in such bonds must be to a non-U.S. person.

(b) Except as provided in paragraph (f) of this general license, U.S. persons are authorized to engage in all transactions prohibited by Subsection 1(a)(iii) of E.O. 13808 that are ordinarily incident and necessary to facilitating, clearing, and settling trades of holdings in GL 3D Bonds, provided such trades were placed prior to 4:00 p.m. eastern standard time on February 1, 2019.

(c) Except as provided in paragraph (f) of this general license, all transactions and activities prohibited by Section 1(a)(iii) of E.O. 13808 that are ordinarily incident and necessary to the wind down of financial contracts or other agreements that were entered into prior to 4:00 p.m. eastern standard time on February 1, 2019, involving, or linked to, GL 3D Bonds are authorized. This authorization is valid through 12:01 a.m. eastern daylight time, May 10, 2019.

(d) Except as provided in paragraph (f) of this general license, all transactions related to, the provision of financing for, and other dealings in bonds that were issued both (i) prior to August 25, 2017 (the effective date of E.O. 13808), and (ii) by U.S. person entities owned or controlled, directly or indirectly, by the Government of Venezuela, other than Nynas AB, PDV Holding, Inc. (PDVH), CITGO Holding, Inc., and any of their subsidiaries, are authorized.

(e) Paragraph (a) of this general license does not authorize U.S. persons to purchase or invest in, or to facilitate the purchase of or investment in, directly or indirectly, bonds issued by the Government of Venezuela prior to August 25, 2017 (including the GL 3D Bonds), other than purchases of or investments in GL 3D Bonds that are ordinarily incident and necessary to the divestment or transfer of holdings in GL 3D Bonds.

(f) This general license does not authorize any transaction that is otherwise prohibited by Executive Order 13850 of November 1, 2018, Executive Order 13835 of May 21, 2018, Executive Order 13827 of March 19, 2018, Executive Order 13808 of August 24, 2017, Executive Order 13692 of March 8, 2015, or any part of 31 CFR chapter V.

(g) Effective March 8, 2019, General License No. 3C, dated February 11, 2019, is replaced and superseded in its entirety by this General License No. 3D.

Andrea Gacki,

Director, Office of Foreign Assets Control

Dated: March 8, 2019

Annex—Venezuela-Related Bonds Described in Paragraph (a) of General License 3D (GL 3D Bonds)

List of GL 3D Bonds, as of March 8, 2019:

ISIN | CUSIP | Issuer name | Cpn | Issue date | Maturity
XS0082274118 | EC0634765 | Pulp & Paper International Invts Ltd | 8.5 | 12/2/1997 | 12/2/2002
XS0838835451 | EJ4041160 | Republic of Venezuela 11.75% Euro-Dollar Bonds 2026 Ltd/The | 11.75 | 10/3/2012 | 10/21/2026
XS0504851535 | EI2372072 | Republic of Venezuela 8.25% Bonds 2024 Ltd/The | 8.25 | 4/30/2010 | 10/13/2024
XS0838864808 | EJ4040618 | Republic of Venezuela 8.25% Bonds 2024 Ltd/The | 8.25 | 10/3/2012 | 10/13/2024
USN7992HAA07 | EF3856640 | Sidetur Finance BV | 10 | 5/3/2006 | 4/20/2016
US825870AA62 | 825870AA6 | Sidetur Finance BV | 10 | 5/3/2006 | 4/20/2016
XS0081483090 | 922655BR5 | Venezuela Global Strip | 0 | 9/18/1997 | 9/15/2017
XS0081484817 | GG7366808 | Venezuela Global Strip | 0 | 9/18/1997 | 9/15/2021
XS0081487166 | 922655CJ2 | Venezuela Global Strip | 0 | 9/18/1997 | 3/15/2026
XS0081483843 | 922655BV6 | Venezuela Global Strip | 0 | 9/18/1997 | 9/15/2019
XS0081483504 | 922655BU8 | Venezuela Global Strip | 0 | 9/18/1997 | 3/15/2019
XS0081486861 | 922655CH6 | Venezuela Global Strip | 0 | 9/18/1997 | 9/15/2025
XS0081484064 | 922655BW4 | Venezuela Global Strip | 0 | 9/18/1997 | 3/15/2020
XS0081483413 | 922655BT1 | Venezuela Global Strip | 0 | 9/18/1997 | 9/15/2018
XS0081487240 | 922655CK9 | Venezuela Global Strip | 0 | 9/18/1997 | 9/15/2026
XS0081486515 | 922655CG8 | Venezuela Global Strip | 0 | 9/18/1997 | 3/15/2025
XS0081484908 | 922655CA1 | Venezuela Global Strip | 0 | 9/18/1997 | 3/15/2022
XS0081485202 | 922655CB9 | Venezuela Global Strip | 0 | 9/18/1997 | 9/15/2022
XS0081485467 | 922655CD5 | Venezuela Global Strip | 0 | 9/18/1997 | 9/15/2023
XS0081483330 | 922655BS3 | Venezuela Global Strip | 0 | 9/18/1997 | 3/15/2018
XS0081486192 | 922655CF0 | Venezuela Global Strip | 0 | 9/18/1997 | 9/15/2024
XS0081484221 | 922655BX2 | Venezuela Global Strip | 0 | 9/18/1997 | 9/15/2020
XS0081485541 | 922655CE3 | Venezuela Global Strip | 0 | 9/18/1997 | 3/15/2024
XS0081484650 | 922655BY0 | Venezuela Global Strip | 0 | 9/18/1997 | 3/15/2021
XS0081485384 | 922655CC7 | Venezuela Global Strip | 0 | 9/18/1997 | 3/15/2023
XS0081487679 | 922655CL7 | Venezuela Global Strip | 0 | 9/18/1997 | 3/15/2027
XS0081469008 | 922655CS2 | Venezuela Global Strip | 0 | 9/18/1997 | 9/15/2027
XS0081487836 | 922655CM5 | Venezuela Global Strip | 0 | 9/18/1997 | 9/15/2027
XS0081469859 | 922655CR4 | Venezuela Global Strip | 0 | #N/A Field Not Applicable | 9/15/2027
XS0081488644 | 922655CQ6 | Venezuela Global Strip | 0 | #N/A Field Not Applicable | 9/15/2027
XS0029484788 | EF3043504 | Venezuela Government International Bond | 0 | 12/18/1990 | 4/15/2020
XS0029484861 | EF3042142 | Venezuela Government International Bond | 0 | 12/18/1990 | 4/15/2020
XS0029484515 | EF3043546 | Venezuela Government International Bond | 0 | 12/18/1990 | 4/15/2020
XS0029485322 | TT3352321 | Venezuela Government International Bond | 0 | 12/18/1990 | 4/15/2020
XS0029484945 | TT2005359 | Venezuela Government International Bond | 0 | 12/18/1990 | 4/15/2020
US922646AS37 | 922646AS3 | Venezuela Government International Bond | 9.25 | 9/18/1997 | 9/15/2027
US922646AT10 | 922646AT1 | Venezuela Government International Bond | 13.625 | 8/6/1998 | 8/15/2018
USP9395PAA95 | EF5132735 | Venezuela Government International Bond | 13.625 | 9/27/2001 | 8/15/2018
US922646BE32 | 922646BE3 | Venezuela Government International Bond | 13.625 | 9/27/2001 | 8/15/2018
USP97475AD26 | ED2379482 | Venezuela Government International Bond | 7 | 12/1/2003 | 12/1/2018
US922646BL74 | 922646BL7 | Venezuela Government International Bond | 9.375 | 1/14/2004 | 1/13/2034
XS0217249126 | ED8955574 | Venezuela Government International Bond | 7.65 | 4/21/2005 | 4/21/2025
USP97475AG56 | EF1877168 | Venezuela Government International Bond | 6 | 12/9/2005 | 12/9/2020
USP97475AJ95 | EH0305910 | Venezuela Government International Bond | 7 | 11/15/2007 | 3/31/2038
USP17625AB33 | EH3345228 | Venezuela Government International Bond | 9.25 | 5/7/2008 | 5/7/2028
USP17625AA59 | EH3344783 | Venezuela Government International Bond | 9 | 5/7/2008 | 5/7/2023
USP97475AN08 | EH9901297 | Venezuela Government International Bond | 7.75 | 10/13/2009 | 10/13/2019
USP97475AP55 | EH9901214 | Venezuela Government International Bond | 8.25 | 10/13/2009 | 10/13/2024
USP17625AC16 | EI3500440 | Venezuela Government International Bond | 12.75 | 8/23/2010 | 8/23/2022
USP17625AD98 | EI7507573 | Venezuela Government International Bond | 11.95 | 8/5/2011 | 8/5/2031
USP17625AE71 | EI8410553 | Venezuela Government International Bond | 11.75 | 10/21/2011 | 10/21/2026

OFFICE OF FOREIGN ASSETS CONTROL

Executive Order 13808 of August 24, 2017

Imposing Additional Sanctions With Respect to the Situation in Venezuela

Executive Order 13850 of November 1, 2018

Blocking Property of Additional Persons Contributing to the Situation in Venezuela

GENERAL LICENSE 3E

Authorizing Transactions Related to, Provision of Financing for, and Other Dealings in Certain Bonds

(a) Except as provided in paragraphs (e) and (f) of this general license, all transactions related to, the provision of financing for, and other dealings in bonds specified in the Annex to this general license (GL 3E Bonds) that would be prohibited by Subsection 1(a)(iii) of Executive Order (E.O.) 13808, as amended by E.O. 13857 of January 25, 2019 (“Taking Additional Steps to Address the National Emergency With Respect to Venezuela”) (E.O. 13808), or by E.O. 13850, as amended by E.O. 13857 (E.O. 13850), are authorized, provided that any divestment or transfer of, or facilitation of divestment or transfer of, any holdings in such bonds must be to a non-U.S. person.

(b) Except as provided in paragraph (f) of this general license, U.S. persons are authorized to engage in all transactions prohibited by Subsection 1(a)(iii) of E.O. 13808 or by E.O. 13850 that are ordinarily incident and necessary to facilitating, clearing, and settling trades of holdings in GL 3E Bonds, provided such trades were placed prior to 4:00 p.m. eastern standard time on February 1, 2019.

(c) Except as provided in paragraph (f) of this general license, all transactions and activities prohibited by Section 1(a)(iii) of E.O. 13808 or by E.O. 13850 that are ordinarily incident and necessary to the wind down of financial contracts or other agreements that were entered into prior to 4:00 p.m. eastern standard time on February 1, 2019, involving, or linked to, GL 3E Bonds are authorized. This authorization is valid through 12:01 a.m. eastern daylight time, September 30, 2019.

(d) Except as provided in paragraph (f) of this general license, all transactions related to, the provision of financing for, and other dealings in bonds that were issued both (i) prior to August 25, 2017 (the effective date of E.O. 13808), and (ii) by U.S. person entities owned or controlled, directly or indirectly, by the Government of Venezuela, other than Nynas AB, PDV Holding, Inc. (PDVH), CITGO Holding, Inc., and any of their subsidiaries, are authorized.

(e) Paragraph (a) of this general license does not authorize:

(1) U.S. persons to sell, or to facilitate the sale of, GL3E Bonds to, directly or indirectly, any person whose property and interests in property are blocked pursuant to E.O. 13850, including Banco Central de Venezuela, Petróleos de Venezuela, S.A. (PdVSA), or any entities in which the Banco Central de Venezuela or PdVSA owns, directly or indirectly, a 50 percent or greater interest.

(2) U.S. persons to purchase or invest in, or to facilitate the purchase of or investment in, directly or indirectly, GL 3E Bonds, other than purchases of or investments in GL 3E Bonds that are ordinarily incident and necessary to the divestment or transfer of holdings in GL 3E Bonds.

(f) This general license does not authorize any transaction that is otherwise prohibited by E.O. 13850 of November 1, 2018, E.O. 13835 of May 21, 2018, E.O. 13827 of March 19, 2018, E.O. 13808 of August 24, 2017, E.O. 13692 of March 8, 2015, each as amended by E.O. 13857, or any part of 31 CFR chapter V, or any transactions or dealings with any blocked person other than transactions involving Banco Central de Venezuela that are described in this general license.

(g) Effective April 17, 2019, General License No. 3D, dated March 8, 2019, is replaced and superseded in its entirety by this General License No. 3E.

Andrea Gacki,

Director, Office of Foreign Assets Control

Dated: April 17, 2019

Annex—Venezuela-Related Bonds Described in Paragraph (a) of General License 3E (GL 3E Bonds)

List of GL 3E Bonds, as of April 17, 2019:

ISIN | CUSIP | Issuer name | Cpn | Issue date | Maturity
XS0082274118 | EC0634765 | Pulp & Paper International Invts Ltd | 8.5 | 12/2/1997 | 12/2/2002
XS0838835451 | EJ4041160 | Republic of Venezuela 11.75% Euro-Dollar Bonds 2026 Ltd/The | 11.75 | 10/3/2012 | 10/21/2026
XS0504851535 | EI2372072 | Republic of Venezuela 8.25% Bonds 2024 Ltd/The | 8.25 | 4/30/2010 | 10/13/2024
XS0838864808 | EJ4040618 | Republic of Venezuela 8.25% Bonds 2024 Ltd/The | 8.25 | 10/3/2012 | 10/13/2024
USN7992HAA07 | EF3856640 | Sidetur Finance BV | 10 | 5/3/2006 | 4/20/2016
US825870AA62 | 825870AA6 | Sidetur Finance BV | 10 | 5/3/2006 | 4/20/2016
XS0081483090 | 922655BR5 | Venezuela Global Strip | 0 | 9/18/1997 | 9/15/2017
XS0081484817 | GG7366808 | Venezuela Global Strip | 0 | 9/18/1997 | 9/15/2021
XS0081487166 | 922655CJ2 | Venezuela Global Strip | 0 | 9/18/1997 | 3/15/2026
XS0081483843 | 922655BV6 | Venezuela Global Strip | 0 | 9/18/1997 | 9/15/2019
XS0081483504 | 922655BU8 | Venezuela Global Strip | 0 | 9/18/1997 | 3/15/2019
XS0081486861 | 922655CH6 | Venezuela Global Strip | 0 | 9/18/1997 | 9/15/2025
XS0081484064 | 922655BW4 | Venezuela Global Strip | 0 | 9/18/1997 | 3/15/2020
XS0081483413 | 922655BT1 | Venezuela Global Strip | 0 | 9/18/1997 | 9/15/2018
XS0081487240 | 922655CK9 | Venezuela Global Strip | 0 | 9/18/1997 | 9/15/2026
XS0081486515 | 922655CG8 | Venezuela Global Strip | 0 | 9/18/1997 | 3/15/2025
XS0081484908 | 922655CA1 | Venezuela Global Strip | 0 | 9/18/1997 | 3/15/2022
XS0081485202 | 922655CB9 | Venezuela Global Strip | 0 | 9/18/1997 | 9/15/2022
XS0081485467 | 922655CD5 | Venezuela Global Strip | 0 | 9/18/1997 | 9/15/2023
XS0081483330 | 922655BS3 | Venezuela Global Strip | 0 | 9/18/1997 | 3/15/2018
XS0081486192 | 922655CF0 | Venezuela Global Strip | 0 | 9/18/1997 | 9/15/2024
XS0081484221 | 922655BX2 | Venezuela Global Strip | 0 | 9/18/1997 | 9/15/2020
XS0081485541 | 922655CE3 | Venezuela Global Strip | 0 | 9/18/1997 | 3/15/2024
XS0081484650 | 922655BY0 | Venezuela Global Strip | 0 | 9/18/1997 | 3/15/2021
XS0081485384 | 922655CC7 | Venezuela Global Strip | 0 | 9/18/1997 | 3/15/2023
XS0081487679 | 922655CL7 | Venezuela Global Strip | 0 | 9/18/1997 | 3/15/2027
XS0081469008 | 922655CS2 | Venezuela Global Strip | 0 | 9/18/1997 | 9/15/2027
XS0081487836 | 922655CM5 | Venezuela Global Strip | 0 | 9/18/1997 | 9/15/2027
XS0081469859 | 922655CR4 | Venezuela Global Strip | 0 | #N/A Field Not Applicable | 9/15/2027
XS0081488644 | 922655CQ6 | Venezuela Global Strip | 0 | #N/A Field Not Applicable | 9/15/2027
XS0029484788 | EF3043504 | Venezuela Government International Bond | 0 | 12/18/1990 | 4/15/2020
XS0029484861 | EF3042142 | Venezuela Government International Bond | 0 | 12/18/1990 | 4/15/2020
XS0029484515 | EF3043546 | Venezuela Government International Bond | 0 | 12/18/1990 | 4/15/2020
XS0029485322 | TT3352321 | Venezuela Government International Bond | 0 | 12/18/1990 | 4/15/2020
XS0029484945 | TT2005359 | Venezuela Government International Bond | 0 | 12/18/1990 | 4/15/2020
US922646AS37 | 922646AS3 | Venezuela Government International Bond | 9.25 | 9/18/1997 | 9/15/2027
US922646AT10 | 922646AT1 | Venezuela Government International Bond | 13.625 | 8/6/1998 | 8/15/2018
USP9395PAA95 | EF5132735 | Venezuela Government International Bond | 13.625 | 9/27/2001 | 8/15/2018
US922646BE32 | 922646BE3 | Venezuela Government International Bond | 13.625 | 9/27/2001 | 8/15/2018
USP97475AD26 | ED2379482 | Venezuela Government International Bond | 7 | 12/1/2003 | 12/1/2018
US922646BL74 | 922646BL7 | Venezuela Government International Bond | 9.375 | 1/14/2004 | 1/13/2034
XS0217249126 | ED8955574 | Venezuela Government International Bond | 7.65 | 4/21/2005 | 4/21/2025
USP97475AG56 | EF1877168 | Venezuela Government International Bond | 6 | 12/9/2005 | 12/9/2020
USP97475AJ95 | EH0305910 | Venezuela Government International Bond | 7 | 11/15/2007 | 3/31/2038
USP17625AB33 | EH3345228 | Venezuela Government International Bond | 9.25 | 5/7/2008 | 5/7/2028
USP17625AA59 | EH3344783 | Venezuela Government International Bond | 9 | 5/7/2008 | 5/7/2023
USP97475AN08 | EH9901297 | Venezuela Government International Bond | 7.75 | 10/13/2009 | 10/13/2019
USP97475AP55 | EH9901214 | Venezuela Government International Bond | 8.25 | 10/13/2009 | 10/13/2024
USP17625AC16 | EI3500440 | Venezuela Government International Bond | 12.75 | 8/23/2010 | 8/23/2022
USP17625AD98 | EI7507573 | Venezuela Government International Bond | 11.95 | 8/5/2011 | 8/5/2031
USP17625AE71 | EI8410553 | Venezuela Government International Bond | 11.75 | 10/21/2011 | 10/21/2026

OFFICE OF FOREIGN ASSETS CONTROL

Executive Order 13808 of August 24, 2017

Imposing Additional Sanctions With Respect to the Situation in Venezuela

Executive Order 13850 of November 1, 2018

Blocking Property of Additional Persons Contributing to the Situation in Venezuela

Executive Order of August 5, 2019

Blocking Property of the Government of Venezuela

GENERAL LICENSE 3F

Authorizing Transactions Related to, Provision of Financing for, and Other Dealings in Certain Bonds

(a) Except as provided in paragraphs (e) and (f) of this general license, all transactions related to, the provision of financing for, and other dealings in bonds specified in the Annex to this general license (GL 3F Bonds) that would be prohibited by Subsection 1(a)(iii) of Executive Order (E.O.) 13808, or by E.O. 13850, each as amended by E.O. 13857 of January 25, 2019, or by E.O. of August 5, 2019, are authorized, provided that any divestment or transfer of, or facilitation of divestment or transfer of, any holdings in such bonds must be to a non-U.S. person.

(b) Except as provided in paragraph (f) of this general license, U.S. persons are authorized to engage in all transactions prohibited by Subsection 1(a)(iii) of E.O. 13808 or by E.O. 13850, each as amended, or by E.O. of August 5, 2019 that are ordinarily incident and necessary to facilitating, clearing, and settling trades of holdings in GL 3F Bonds, provided such trades were placed prior to 4:00 p.m. eastern standard time on February 1, 2019.

(c) Except as provided in paragraph (f) of this general license, all transactions and activities prohibited by Section 1(a)(iii) of E.O. 13808 or by E.O. 13850, each as amended, or by E.O. of August 5, 2019 that are ordinarily incident and necessary to the wind down of financial contracts or other agreements that were entered into prior to 4:00 p.m. eastern standard time on February 1, 2019, involving, or linked to, GL 3F Bonds are authorized. This authorization is valid through 12:01 a.m. eastern daylight time, September 30, 2019.

(d) Except as provided in paragraph (f) of this general license, all transactions related to, the provision of financing for, and other dealings in bonds that were issued both (i) prior to August 25, 2017 (the effective date of E.O. 13808), and (ii) by U.S. person entities owned or controlled, directly or indirectly, by the Government of Venezuela, other than Nynas AB, PDV Holding, Inc. (PDVH), CITGO Holding, Inc., and any of their subsidiaries, are authorized.

(e) Paragraph (a) of this general license does not authorize:

(1) U.S. persons to sell, or to facilitate the sale of, GL3F Bonds to, directly or indirectly, any person whose property and interests in property are blocked pursuant to E.O. 13850, as amended, or E.O. of August 5, 2019.

(2) U.S. persons to purchase or invest in, or to facilitate the purchase of or investment in, directly or indirectly, GL 3F Bonds, other than purchases of or investments in GL 3F Bonds that are ordinarily incident and necessary to the divestment or transfer of holdings in GL 3F Bonds.

(f) This general license does not authorize:

(1) The unblocking of any property blocked pursuant to any part of 31 CFR chapter V, except as authorized by paragraphs (a), (b), (c), and (d); or

(2) Any transaction that is otherwise prohibited by E.O. of August 5, 2019, or E.O. 13850, E.O. 13835 of May 21, 2018, E.O. 13827 of March 19, 2018, E.O. 13808, or E.O. 13692 of March 8, 2015, each as amended, or any part of 31 CFR chapter V, or any transactions or dealings with any blocked person other than the transactions involving the Government of Venezuela, including Banco Central de Venezuela, that are described in this general license.

(g) Effective August 5, 2019, General License No. 3E, dated April 17, 2019, is replaced and superseded in its entirety by this General License No. 3F.

Andrea Gacki,

Director, Office of Foreign Assets Control

Dated: August 5, 2019

Annex—Venezuela-Related Bonds Described in Paragraph (a) of General License 3F (GL 3F Bonds)

List of GL 3F Bonds, as of August 5, 2019:

ISIN | CUSIP | Issuer name | Cpn | Issue date | Maturity
XS0082274118 | EC0634765 | Pulp & Paper International Invts Ltd | 8.5 | 12/2/1997 | 12/2/2002
XS0838835451 | EJ4041160 | Republic of Venezuela 11.75% Euro-Dollar Bonds 2026 Ltd/The | 11.75 | 10/3/2012 | 10/21/2026
XS0504851535 | EI2372072 | Republic of Venezuela 8.25% Bonds 2024 Ltd/The | 8.25 | 4/30/2010 | 10/13/2024
XS0838864808 | EJ4040618 | Republic of Venezuela 8.25% Bonds 2024 Ltd/The | 8.25 | 10/3/2012 | 10/13/2024
USN7992HAA07 | EF3856640 | Sidetur Finance BV | 10 | 5/3/2006 | 4/20/2016
US825870AA62 | 825870AA6 | Sidetur Finance BV | 10 | 5/3/2006 | 4/20/2016
XS0081483090 | 922655BR5 | Venezuela Global Strip | 0 | 9/18/1997 | 9/15/2017
XS0081484817 | GG7366808 | Venezuela Global Strip | 0 | 9/18/1997 | 9/15/2021
XS0081487166 | 922655CJ2 | Venezuela Global Strip | 0 | 9/18/1997 | 3/15/2026
XS0081483843 | 922655BV6 | Venezuela Global Strip | 0 | 9/18/1997 | 9/15/2019
XS0081483504 | 922655BU8 | Venezuela Global Strip | 0 | 9/18/1997 | 3/15/2019
XS0081486861 | 922655CH6 | Venezuela Global Strip | 0 | 9/18/1997 | 9/15/2025
XS0081484064 | 922655BW4 | Venezuela Global Strip | 0 | 9/18/1997 | 3/15/2020
XS0081483413 | 922655BT1 | Venezuela Global Strip | 0 | 9/18/1997 | 9/15/2018
XS0081487240 | 922655CK9 | Venezuela Global Strip | 0 | 9/18/1997 | 9/15/2026
XS0081486515 | 922655CG8 | Venezuela Global Strip | 0 | 9/18/1997 | 3/15/2025
XS0081484908 | 922655CA1 | Venezuela Global Strip | 0 | 9/18/1997 | 3/15/2022
XS0081485202 | 922655CB9 | Venezuela Global Strip | 0 | 9/18/1997 | 9/15/2022
XS0081485467 | 922655CD5 | Venezuela Global Strip | 0 | 9/18/1997 | 9/15/2023
XS0081483330 | 922655BS3 | Venezuela Global Strip | 0 | 9/18/1997 | 3/15/2018
XS0081486192 | 922655CF0 | Venezuela Global Strip | 0 | 9/18/1997 | 9/15/2024
XS0081484221 | 922655BX2 | Venezuela Global Strip | 0 | 9/18/1997 | 9/15/2020
XS0081485541 | 922655CE3 | Venezuela Global Strip | 0 | 9/18/1997 | 3/15/2024
XS0081484650 | 922655BY0 | Venezuela Global Strip | 0 | 9/18/1997 | 3/15/2021
XS0081485384 | 922655CC7 | Venezuela Global Strip | 0 | 9/18/1997 | 3/15/2023
XS0081487679 | 922655CL7 | Venezuela Global Strip | 0 | 9/18/1997 | 3/15/2027
XS0081469008 | 922655CS2 | Venezuela Global Strip | 0 | 9/18/1997 | 9/15/2027
XS0081487836 | 922655CM5 | Venezuela Global Strip | 0 | 9/18/1997 | 9/15/2027
XS0081469859 | 922655CR4 | Venezuela Global Strip | 0 | #N/A Field Not Applicable | 9/15/2027
XS0081488644 | 922655CQ6 | Venezuela Global Strip | 0 | #N/A Field Not Applicable | 9/15/2027
XS0029484788 | EF3043504 | Venezuela Government International Bond | 0 | 12/18/1990 | 4/15/2020
XS0029484861 | EF3042142 | Venezuela Government International Bond | 0 | 12/18/1990 | 4/15/2020
XS0029484515 | EF3043546 | Venezuela Government International Bond | 0 | 12/18/1990 | 4/15/2020
XS0029485322 | TT3352321 | Venezuela Government International Bond | 0 | 12/18/1990 | 4/15/2020
XS0029484945 | TT2005359 | Venezuela Government International Bond | 0 | 12/18/1990 | 4/15/2020
US922646AS37 | 922646AS3 | Venezuela Government International Bond | 9.25 | 9/18/1997 | 9/15/2027
US922646AT10 | 922646AT1 | Venezuela Government International Bond | 13.625 | 8/6/1998 | 8/15/2018
USP9395PAA95 | EF5132735 | Venezuela Government International Bond | 13.625 | 9/27/2001 | 8/15/2018
US922646BE32 | 922646BE3 | Venezuela Government International Bond | 13.625 | 9/27/2001 | 8/15/2018
USP97475AD26 | ED2379482 | Venezuela Government International Bond | 7 | 12/1/2003 | 12/1/2018
US922646BL74 | 922646BL7 | Venezuela Government International Bond | 9.375 | 1/14/2004 | 1/13/2034
XS0217249126 | ED8955574 | Venezuela Government International Bond | 7.65 | 4/21/2005 | 4/21/2025
USP97475AG56 | EF1877168 | Venezuela Government International Bond | 6 | 12/9/2005 | 12/9/2020
USP97475AJ95 | EH0305910 | Venezuela Government International Bond | 7 | 11/15/2007 | 3/31/2038
USP17625AB33 | EH3345228 | Venezuela Government International Bond | 9.25 | 5/7/2008 | 5/7/2028
USP17625AA59 | EH3344783 | Venezuela Government International Bond | 9 | 5/7/2008 | 5/7/2023
USP97475AN08 | EH9901297 | Venezuela Government International Bond | 7.75 | 10/13/2009 | 10/13/2019
USP97475AP55 | EH9901214 | Venezuela Government International Bond | 8.25 | 10/13/2009 | 10/13/2024
USP17625AC16 | EI3500440 | Venezuela Government International Bond | 12.75 | 8/23/2010 | 8/23/2022
USP17625AD98 | EI7507573 | Venezuela Government International Bond | 11.95 | 8/5/2011 | 8/5/2031
USP17625AE71 | EI8410553 | Venezuela Government International Bond | 11.75 | 10/21/2011 | 10/21/2026

OFFICE OF FOREIGN ASSETS CONTROL

Executive Order 13808 of August 24, 2017

Imposing Additional Sanctions With Respect to the Situation in Venezuela

Executive Order 13850 of November 1, 2018

Blocking Property of Additional Persons Contributing to the Situation in Venezuela

Executive Order 13884 of August 5, 2019

Blocking Property of the Government of Venezuela

GENERAL LICENSE 3G

Authorizing Transactions Related to, Provision of Financing for, and Other Dealings in Certain Bonds

(a) Except as provided in paragraphs (e) and (f) of this general license, all transactions related to, the provision of financing for, and other dealings in bonds specified in the Annex to this general license (GL 3G Bonds) that would be prohibited by Subsection 1(a)(iii) of Executive Order (E.O.) 13808, or by E.O. 13850, each as amended by E.O. 13857 of January 25, 2019, or by E.O. 13884 of August 5, 2019, are authorized, provided that any divestment or transfer of, or facilitation of divestment or transfer of, any holdings in such bonds must be to a non-U.S. person.

(b) Except as provided in paragraph (f) of this general license, U.S. persons are authorized to engage in all transactions prohibited by Subsection 1(a)(iii) of E.O. 13808 or by E.O. 13850, each as amended, or by E.O. 13884 that are ordinarily incident and necessary to facilitating, clearing, and settling trades of holdings in GL 3G Bonds, provided such trades were placed prior to 4:00 p.m. eastern standard time on February 1, 2019.

(c) Except as provided in paragraph (f) of this general license, all transactions and activities prohibited by Section 1(a)(iii) of E.O. 13808 or by E.O. 13850, each as amended, or by E.O. 13884 that are ordinarily incident and necessary to the wind down of financial contracts or other agreements that were entered into prior to 4:00 p.m. eastern standard time on February 1, 2019, involving, or linked to, GL 3G Bonds are authorized. This authorization is valid through 12:01 a.m. eastern daylight time, March 31, 2020.

(d) Except as provided in paragraph (f) of this general license, all transactions related to, the provision of financing for, and other dealings in bonds that were issued both (i) prior to August 25, 2017 (the effective date of E.O. 13808), and (ii) by U.S. person entities owned or controlled, directly or indirectly, by the Government of Venezuela, other than Nynas AB, PDV Holding, Inc. (PDVH), CITGO Holding, Inc., and any of their subsidiaries, are authorized.

(e) Paragraph (a) of this general license does not authorize:

(1) U.S. persons to sell, or to facilitate the sale of, GL3G Bonds to, directly or indirectly, any person whose property and interests in property are blocked pursuant to E.O. 13850, as amended, or E.O. 13884.

(2) U.S. persons to purchase or invest in, or to facilitate the purchase of or investment in, directly or indirectly, GL 3G Bonds, other than purchases of or investments in GL 3G Bonds that are ordinarily incident and necessary to the divestment or transfer of holdings in GL 3G Bonds.

(f) This general license does not authorize:

(1) The unblocking of any property blocked pursuant to any part of 31 CFR chapter V, except as authorized by paragraphs (a), (b), (c), and (d); or

(2) Any transaction that is otherwise prohibited by E.O. 13884, or E.O. 13850, E.O. 13835 of May 21, 2018, E.O. 13827 of March 19, 2018, E.O. 13808, or E.O. 13692 of March 8, 2015, each as amended, or any part of 31 CFR chapter V, or any transactions or dealings with any blocked person other than the transactions involving the Government of Venezuela, including Banco Central de Venezuela, that are described in this general license.

(g) Effective September 30, 2019, General License No. 3F, dated August 5, 2019, is replaced and superseded in its entirety by this General License No. 3G.

Andrea Gacki,

Director, Office of Foreign Assets Control

Dated: October 1, 2019

Annex—Venezuela-Related Bonds Described in Paragraph (a) of General License 3G (GL 3G Bonds)

List of GL 3G Bonds, as of September 30, 2019:

ISIN | CUSIP | Issuer name | Cpn | Issue date | Maturity
XS0082274118 | EC0634765 | Pulp & Paper International Invts Ltd | 8.5 | 12/2/1997 | 12/2/2002
XS0838835451 | EJ4041160 | Republic of Venezuela 11.75% Euro-Dollar Bonds 2026 Ltd/The | 11.75 | 10/3/2012 | 10/21/2026
XS0504851535 | EI2372072 | Republic of Venezuela 8.25% Bonds 2024 Ltd/The | 8.25 | 4/30/2010 | 10/13/2024
XS0838864808 | EJ4040618 | Republic of Venezuela 8.25% Bonds 2024 Ltd/The | 8.25 | 10/3/2012 | 10/13/2024
USN7992HAA07 | EF3856640 | Sidetur Finance BV | 10 | 5/3/2006 | 4/20/2016
US825870AA62 | 825870AA6 | Sidetur Finance BV | 10 | 5/3/2006 | 4/20/2016
XS0081483090 | 922655BR5 | Venezuela Global Strip | 0 | 9/18/1997 | 9/15/2017
XS0081484817 | GG7366808 | Venezuela Global Strip | 0 | 9/18/1997 | 9/15/2021
XS0081487166 | 922655CJ2 | Venezuela Global Strip | 0 | 9/18/1997 | 3/15/2026
XS0081483843 | 922655BV6 | Venezuela Global Strip | 0 | 9/18/1997 | 9/15/2019
XS0081483504 | 922655BU8 | Venezuela Global Strip | 0 | 9/18/1997 | 3/15/2019
XS0081486861 | 922655CH6 | Venezuela Global Strip | 0 | 9/18/1997 | 9/15/2025
XS0081484064 | 922655BW4 | Venezuela Global Strip | 0 | 9/18/1997 | 3/15/2020
XS0081483413 | 922655BT1 | Venezuela Global Strip | 0 | 9/18/1997 | 9/15/2018
XS0081487240 | 922655CK9 | Venezuela Global Strip | 0 | 9/18/1997 | 9/15/2026
XS0081486515 | 922655CG8 | Venezuela Global Strip | 0 | 9/18/1997 | 3/15/2025
XS0081484908 | 922655CA1 | Venezuela Global Strip | 0 | 9/18/1997 | 3/15/2022
XS0081485202 | 922655CB9 | Venezuela Global Strip | 0 | 9/18/1997 | 9/15/2022
XS0081485467 | 922655CD5 | Venezuela Global Strip | 0 | 9/18/1997 | 9/15/2023
XS0081483330 | 922655BS3 | Venezuela Global Strip | 0 | 9/18/1997 | 3/15/2018
XS0081486192 | 922655CF0 | Venezuela Global Strip | 0 | 9/18/1997 | 9/15/2024
XS0081484221 | 922655BX2 | Venezuela Global Strip | 0 | 9/18/1997 | 9/15/2020
XS0081485541 | 922655CE3 | Venezuela Global Strip | 0 | 9/18/1997 | 3/15/2024
XS0081484650 | 922655BY0 | Venezuela Global Strip | 0 | 9/18/1997 | 3/15/2021
XS0081485384 | 922655CC7 | Venezuela Global Strip | 0 | 9/18/1997 | 3/15/2023
XS0081487679 | 922655CL7 | Venezuela Global Strip | 0 | 9/18/1997 | 3/15/2027
XS0081469008 | 922655CS2 | Venezuela Global Strip | 0 | 9/18/1997 | 9/15/2027
XS0081487836 | 922655CM5 | Venezuela Global Strip | 0 | 9/18/1997 | 9/15/2027
XS0081469859 | 922655CR4 | Venezuela Global Strip | 0 | #N/A Field Not Applicable | 9/15/2027
XS0081488644 | 922655CQ6 | Venezuela Global Strip | 0 | #N/A Field Not Applicable | 9/15/2027
XS0029484788 | EF3043504 | Venezuela Government International Bond | 0 | 12/18/1990 | 4/15/2020
XS0029484861 | EF3042142 | Venezuela Government International Bond | 0 | 12/18/1990 | 4/15/2020
XS0029484515 | EF3043546 | Venezuela Government International Bond | 0 | 12/18/1990 | 4/15/2020
XS0029485322 | TT3352321 | Venezuela Government International Bond | 0 | 12/18/1990 | 4/15/2020
XS0029484945 | TT2005359 | Venezuela Government International Bond | 0 | 12/18/1990 | 4/15/2020
US922646AS37 | 922646AS3 | Venezuela Government International Bond | 9.25 | 9/18/1997 | 9/15/2027
US922646AT10 | 922646AT1 | Venezuela Government International Bond | 13.625 | 8/6/1998 | 8/15/2018
USP9395PAA95 | EF5132735 | Venezuela Government International Bond | 13.625 | 9/27/2001 | 8/15/2018
US922646BE32 | 922646BE3 | Venezuela Government International Bond | 13.625 | 9/27/2001 | 8/15/2018
USP97475AD26 | ED2379482 | Venezuela Government International Bond | 7 | 12/1/2003 | 12/1/2018
US922646BL74 | 922646BL7 | Venezuela Government International Bond | 9.375 | 1/14/2004 | 1/13/2034
XS0217249126 | ED8955574 | Venezuela Government International Bond | 7.65 | 4/21/2005 | 4/21/2025
USP97475AG56 | EF1877168 | Venezuela Government International Bond | 6 | 12/9/2005 | 12/9/2020
USP97475AJ95 | EH0305910 | Venezuela Government International Bond | 7 | 11/15/2007 | 3/31/2038
USP17625AB33 | EH3345228 | Venezuela Government International Bond | 9.25 | 5/7/2008 | 5/7/2028
USP17625AA59 | EH3344783 | Venezuela Government International Bond | 9 | 5/7/2008 | 5/7/2023
USP97475AN08 | EH9901297 | Venezuela Government International Bond | 7.75 | 10/13/2009 | 10/13/2019
USP97475AP55 | EH9901214 | Venezuela Government International Bond | 8.25 | 10/13/2009 | 10/13/2024
USP17625AC16 | EI3500440 | Venezuela Government International Bond | 12.75 | 8/23/2010 | 8/23/2022
USP17625AD98 | EI7507573 | Venezuela Government International Bond | 11.95 | 8/5/2011 | 8/5/2031
USP17625AE71 | EI8410553 | Venezuela Government International Bond | 11.75 | 10/21/2011 | 10/21/2026

OFFICE OF FOREIGN ASSETS CONTROL

Venezuela Sanctions Regulations

31 CFR Part 591

GENERAL LICENSE NO. 3H

Authorizing Transactions Related to, Provision of Financing for, and Other Dealings in Certain Bonds

(a) Except as provided in paragraphs (e) and (f) of this general license, all transactions related to, the provision of financing for, and other dealings in bonds specified in the Annex to this general license (GL 3H Bonds) that would be prohibited by Subsection 1(a)(iii) of Executive Order (E.O.) 13808 of August 24, 2017 or by E.O. 13850 of November 1, 2018, each as amended by E.O. 13857 of January 25, 2019, or by E.O. 13884 of August 5, 2019, as collectively incorporated into the Venezuela Sanctions Regulations, 31 CFR part 591 (the VSR), are authorized, provided that any divestment or transfer of, or facilitation of divestment or transfer of, any holdings in such bonds must be to a non-U.S. person.

(b) Except as provided in paragraph (f) of this general license, U.S. persons are authorized to engage in all transactions prohibited by Subsection 1(a)(iii) of E.O. 13808 or by E.O. 13850, each as amended, or by E.O. 13884, as collectively incorporated into the VSR, that are ordinarily incident and necessary to facilitating, clearing, and settling trades of holdings in GL 3H Bonds, provided such trades were placed prior to 4:00 p.m. eastern standard time on February 1, 2019.

(c) Except as provided in paragraph (f) of this general license, all transactions and activities prohibited by Subsection 1(a)(iii) of E.O. 13808 or by E.O. 13850, each as amended, or by E.O. 13884, as collectively incorporated into the VSR, that are ordinarily incident and necessary to the wind down of financial contracts or other agreements that were entered into prior to 4:00 p.m. eastern standard time on February 1, 2019, involving, or linked to, GL 3H Bonds are authorized. This authorization is valid through 12:01 a.m. eastern daylight time, March 31, 2020.

(d) Except as provided in paragraph (f) of this general license, all transactions related to, the provision of financing for, and other dealings in bonds that were issued both (i) prior to August 25, 2017 (the effective date of E.O. 13808), and (ii) by U.S. person entities owned or controlled, directly or indirectly, by the Government of Venezuela, other than PDV Holding, Inc. (PDVH), CITGO Holding, Inc., and any of their subsidiaries, that would be prohibited by E.O. 13808 or E.O. 13850, each as amended, or by E.O. 13884, as collectively incorporated into the VSR, are authorized.

(e) Paragraph (a) of this general license does not authorize:

(1) U.S. persons to sell, or to facilitate the sale of, GL 3H Bonds to, directly or indirectly, any person whose property and interests in property are blocked pursuant to the VSR; or

(2) U.S. persons to purchase or invest in, or to facilitate the purchase of or investment in, directly or indirectly, GL 3H Bonds, other than purchases of or investments in GL 3H Bonds that are ordinarily incident and necessary to the divestment or transfer of holdings in GL 3H Bonds.

(f) This general license does not authorize:

(1) The unblocking of any property blocked pursuant to the VSR, or any other part of 31 CFR chapter V, except as authorized by paragraphs (a), (b), (c), and (d); or

(2) Any transactions or activities otherwise prohibited by the VSR, or any other part of 31 CFR chapter V, or any transactions or activities with any blocked persons other than transactions or activities involving the Government of Venezuela, including Banco Central de Venezuela, that are described in this general license.

(g) Effective May 12, 2020, General License No. 3G, dated October 1, 2019, is replaced and superseded in its entirety by this General License No. 3H.

Andrea Gacki,

Director, Office of Foreign Assets Control

Dated: May 12, 2020

Annex—Venezuela-Related Bonds Described in Paragraph (a) of General License No. 3H (GL 3H Bonds)

List of GL 3H Bonds, as of May 12, 2020:

ISIN | CUSIP | Issuer name | Cpn | Issue date | Maturity
XS0082274118 | EC0634765 | Pulp & Paper International Invts Ltd | 8.5 | 12/2/1997 | 12/2/2002
XS0838835451 | EJ4041160 | Republic of Venezuela 11.75% Euro-Dollar Bonds 2026 Ltd/The | 11.75 | 10/3/2012 | 10/21/2026
XS0504851535 | EI2372072 | Republic of Venezuela 8.25% Bonds 2024 Ltd/The | 8.25 | 4/30/2010 | 10/13/2024
XS0838864808 | EJ4040618 | Republic of Venezuela 8.25% Bonds 2024 Ltd/The | 8.25 | 10/3/2012 | 10/13/2024
USN7992HAA07 | EF3856640 | Sidetur Finance BV | 10 | 5/3/2006 | 4/20/2016
US825870AA62 | 825870AA6 | Sidetur Finance BV | 10 | 5/3/2006 | 4/20/2016
XS0081483090 | 922655BR5 | Venezuela Global Strip | 0 | 9/18/1997 | 9/15/2017
XS0081484817 | GG7366808 | Venezuela Global Strip | 0 | 9/18/1997 | 9/15/2021
XS0081487166 | 922655CJ2 | Venezuela Global Strip | 0 | 9/18/1997 | 3/15/2026
XS0081483843 | 922655BV6 | Venezuela Global Strip | 0 | 9/18/1997 | 9/15/2019
XS0081483504 | 922655BU8 | Venezuela Global Strip | 0 | 9/18/1997 | 3/15/2019
XS0081486861 | 922655CH6 | Venezuela Global Strip | 0 | 9/18/1997 | 9/15/2025
XS0081484064 | 922655BW4 | Venezuela Global Strip | 0 | 9/18/1997 | 3/15/2020
XS0081483413 | 922655BT1 | Venezuela Global Strip | 0 | 9/18/1997 | 9/15/2018
XS0081487240 | 922655CK9 | Venezuela Global Strip | 0 | 9/18/1997 | 9/15/2026
XS0081486515 | 922655CG8 | Venezuela Global Strip | 0 | 9/18/1997 | 3/15/2025
XS0081484908 | 922655CA1 | Venezuela Global Strip | 0 | 9/18/1997 | 3/15/2022
XS0081485202 | 922655CB9 | Venezuela Global Strip | 0 | 9/18/1997 | 9/15/2022
XS0081485467 | 922655CD5 | Venezuela Global Strip | 0 | 9/18/1997 | 9/15/2023
XS0081483330 | 922655BS3 | Venezuela Global Strip | 0 | 9/18/1997 | 3/15/2018
XS0081486192 | 922655CF0 | Venezuela Global Strip | 0 | 9/18/1997 | 9/15/2024
XS0081484221 | 922655BX2 | Venezuela Global Strip | 0 | 9/18/1997 | 9/15/2020
XS0081485541 | 922655CE3 | Venezuela Global Strip | 0 | 9/18/1997 | 3/15/2024
XS0081484650 | 922655BY0 | Venezuela Global Strip | 0 | 9/18/1997 | 3/15/2021
XS0081485384 | 922655CC7 | Venezuela Global Strip | 0 | 9/18/1997 | 3/15/2023
XS0081487679 | 922655CL7 | Venezuela Global Strip | 0 | 9/18/1997 | 3/15/2027
XS0081469008 | 922655CS2 | Venezuela Global Strip | 0 | 9/18/1997 | 9/15/2027
XS0081487836 | 922655CM5 | Venezuela Global Strip | 0 | 9/18/1997 | 9/15/2027
XS0081469859 | 922655CR4 | Venezuela Global Strip | 0 | #N/A Field Not Applicable | 9/15/2027
XS0081488644 | 922655CQ6 | Venezuela Global Strip | 0 | #N/A Field Not Applicable | 9/15/2027
XS0029484788 | EF3043504 | Venezuela Government International Bond | 0 | 12/18/1990 | 4/15/2020
XS0029484861 | EF3042142 | Venezuela Government International Bond | 0 | 12/18/1990 | 4/15/2020
XS0029484515 | EF3043546 | Venezuela Government International Bond | 0 | 12/18/1990 | 4/15/2020
XS0029485322 | TT3352321 | Venezuela Government International Bond | 0 | 12/18/1990 | 4/15/2020
XS0029484945 | TT2005359 | Venezuela Government International Bond | 0 | 12/18/1990 | 4/15/2020
US922646AS37 | 922646AS3 | Venezuela Government International Bond | 9.25 | 9/18/1997 | 9/15/2027
US922646AT10 | 922646AT1 | Venezuela Government International Bond | 13.625 | 8/6/1998 | 8/15/2018
USP9395PAA95 | EF5132735 | Venezuela Government International Bond | 13.625 | 9/27/2001 | 8/15/2018
US922646BE32 | 922646BE3 | Venezuela Government International Bond | 13.625 | 9/27/2001 | 8/15/2018
USP97475AD26 | ED2379482 | Venezuela Government International Bond | 7 | 12/1/2003 | 12/1/2018
US922646BL74 | 922646BL7 | Venezuela Government International Bond | 9.375 | 1/14/2004 | 1/13/2034
XS0217249126 | ED8955574 | Venezuela Government International Bond | 7.65 | 4/21/2005 | 4/21/2025
USP97475AG56 | EF1877168 | Venezuela Government International Bond | 6 | 12/9/2005 | 12/9/2020
USP97475AJ95 | EH0305910 | Venezuela Government International Bond | 7 | 11/15/2007 | 3/31/2038
USP17625AB33 | EH3345228 | Venezuela Government International Bond | 9.25 | 5/7/2008 | 5/7/2028
USP17625AA59 | EH3344783 | Venezuela Government International Bond | 9 | 5/7/2008 | 5/7/2023
USP97475AN08 | EH9901297 | Venezuela Government International Bond | 7.75 | 10/13/2009 | 10/13/2019
USP97475AP55 | EH9901214 | Venezuela Government International Bond | 8.25 | 10/13/2009 | 10/13/2024
USP17625AC16 | EI3500440 | Venezuela Government International Bond | 12.75 | 8/23/2010 | 8/23/2022
USP17625AD98 | EI7507573 | Venezuela Government International Bond | 11.95 | 8/5/2011 | 8/5/2031
USP17625AE71 | EI8410553 | Venezuela Government International Bond | 11.75 | 10/21/2011 | 10/21/2026

Andrea M. Gacki,
Director, Office of Foreign Assets Control.

[FR Doc. 2022-22198 Filed 10-12-22; 8:45 am]

BILLING CODE 4810-AL-P